DEPARTMENT OF EDUCATION

Applications for New Awards; Magnet Schools Assistance Program

AGENCY: Office of Elementary and Secondary Education, Department of Education.

ACTION: Notice.

SUMMARY: The Department of Education (Department) is issuing a notice inviting applications for fiscal year (FY) 2023 for the Magnet Schools Assistance Program (MSAP), Assistance Listing Number 84.165A. This notice relates to the approved information collection under OMB control number 1855-0011.

DATES:

Applications Available: March 14, 2023.

Deadline for Notice of Intent to Apply: April 13, 2023.

Deadline for Transmittal of Applications: May 15, 2023.

Deadline for Intergovernmental Review: July 12, 2023.

Pre-Application Webinar Information: No later than March 24, 2023, MSAP will begin holding webinars to provide technical assistance to interested applicants on key application-related topics. Interested applicants are strongly encouraged to participate or review the accompanying materials available online. Updated information and past application webinars can be found on the MSAP website at https://oese.ed.gov/offices/office-of-discretionary-grants-support-services/school-choice-improvement-programs/magnet-school-assistance-program-msap/. Recordings of all webinars will be available on the MSAP website following the sessions.

ADDRESSES: For the addresses for obtaining and submitting an application, please refer to our Common Instructions for Applicants to Department of Education Discretionary Grant Programs, published in the Federal Register on December 7, 2022 (87 FR 75045), and available at www.federalregister.gov/documents/2022/12/07/2022-26554/common-instructions-for-applicants-to-department-of-education-discretionary-grant-programs. Please note that these Common Instructions supersede the version published on December 27, 2021.

FOR FURTHER INFORMATION CONTACT: Gillian Cohen-Boyer, U.S. Department of Education, 400 Maryland Avenue SW, Room 3C134, Washington, DC 20202-5970. Telephone: (202) 401-1259. Email: msap.team@ed.gov.

If you are deaf, hard of hearing, or have a speech disability and wish to access telecommunications relay services, please dial 7-1-1.

SUPPLEMENTARY INFORMATION:

Full Text of Announcement

I. Funding Opportunity Description

Purpose of Program: MSAP, authorized under title IV, part D of the Elementary and Secondary Education Act of 1965, as amended (ESEA), provides grants to local educational agencies (LEAs) and consortia of LEAs to create or revise magnet schools under required or voluntary desegregation plans.

Under section 4401(b) of the ESEA, 20 U.S.C. 7231, the purpose of MSAP is to assist LEAs in the desegregation of schools by providing financial assistance to eligible LEAs for: (1) the elimination, reduction, or prevention of minority group isolation (MGI) in elementary schools and secondary schools with substantial proportions of minority students, which shall include assisting in the efforts of the United States to achieve voluntary desegregation in public schools; (2) the development, implementation, and expansion of magnet school programs that will assist LEAs in achieving systemic reforms and providing all students the opportunity to meet challenging State academic standards; (3) the development, design, and expansion of innovative educational methods and practices that promote diversity and increase choices in public elementary schools and public secondary schools and public educational programs; (4) courses of instruction within magnet schools that will substantially strengthen the knowledge of academic subjects and the attainment of tangible and marketable career, technological, and professional skills of students attending such schools; (5) improving the capacity of LEAs, including through professional development, to continue operating magnet schools at a high performance level after Federal funding for the magnet schools is terminated; and (6) ensuring that all students enrolled in the magnet school programs have equitable access to high-quality education that will enable the students to succeed academically and continue with postsecondary education or employment.

Background: Since its inception nearly 40 years ago, MSAP has supported LEAs to create magnet schools, defined under section 4402 of the ESEA, 20 U.S.C. 7231a, as public elementary or secondary schools or education centers that offer “a special curriculum capable of attracting substantial numbers of students of different racial backgrounds,” as part of their efforts to voluntarily desegregate their schools or meet the intended outcomes of desegregation plans required by a final order of any court of the United States, a court of any State, or any other State agency or official of competent jurisdiction (herein referred to as “required plans” or “required desegregation plans”). In this competition, the Department seeks to promote applications that effectively address the legislative purpose of the MSAP statute, namely assisting LEAs in the desegregation of schools through the use of magnet schools, by requiring applicants to demonstrate how they intend to align the elements of their proposed MSAP projects to address the goals identified in their required or voluntary desegregation plans. Applicants are required to include a copy of their required or voluntary desegregation plans as a component of their applications under sections 4403 and 4404 of the ESEA, 20 U.S.C. 7231b and 7231c. In accordance with 20 U.S.C. 7231d, 34 CFR 280.2 and 280.20, under section III, part 4 of this notice, applicants must summarize the specific goals and objectives of their required or voluntary desegregation plan and explain how Federal funding of specific magnet schools will assist in achieving their objectives related to the reduction, prevention, or elimination of MGI either in the proposed magnets or in those magnets' feeder schools (as defined in this notice). Applicants must demonstrate at the time of submission that the goals and objectives with regards to the creation or further development of the proposed magnet schools have been recently approved by the applicant's or applicants' school board(s), if operating under a voluntary plan, or that a court, or other cognizant entity as appropriate, has been asked to consider modifying a required plan with these specific goals and objectives in the case of required plans. This information will assist the Department in confirming applicants' eligibility for an award and inform the Department's review of an applicant's project narrative against the selection criteria outlined in section V, part 1 of this notice.

Beyond proposing effective plans for creating or revising magnet schools that offer unique educational opportunities and attract substantial numbers of students of different backgrounds, we encourage applicants to employ a range of strategies to maximize the potential of providing equitable access to opportunities for all students to meet challenging State academic standards as a key aspect of their systemic reforms. Competitive Preferences Priorities 1-4 were established by Congress in the reauthorization of MSAP under ESEA as tools for promoting educational equity and commitments to excellence. Additionally, under section 4407 of the ESEA, 20 U.S.C. 7231f, MSAP permits applicants to support student transportation to and from magnet schools, provided the transportation costs are sustainable beyond the grant period and the costs do not constitute a significant portion of their grant funds. Also, under Competitive Preference Priority 5, we provide competitive preference for applicants that propose to establish, expand, or strengthen inter-district and regional magnet programs consistent with section 4407(a)(8) of the ESEA, 20 U.S.C. 7231f.¹ Responses to Competitive Preference Priority 5 could include activities such as establishing and participating in a voluntary, inter-district transfer program for students within geographic proximity but across districts' boundary lines; making strategic decisions regarding the selection of magnet school sites or revising school boundaries, attendance zones, or feeder patterns to take into account neighboring communities; and formal merging or coordination among multiple educational jurisdictions in order to pool and more equitably allocate resources, provide transportation, expand curricula options, and expand high-quality public school options for students from low-income backgrounds. In responding to Competitive Preference Priority 5, we encourage applicants to describe specific strategies beyond inter-district transfer policies, for example, that the applicant intends to employ to further promote diversity and increase choices across district, geographic, or other boundary lines through the proposed MSAP project.

¹ We note that, in a FY 2023 Appropriations Report (H.R. Rep. No. 117-403 at 263 (2022)), the House Committee on Appropriations directs the Department to include such a priority, citing a 2019 report by the Urban Institute indicating that two-thirds of total school segregation in metropolitan areas is due to segregation between, rather than within, school districts. Monarrez, Tómas, Kisida, Brian, and Chingos, Matthew. When is a school segregated? Making sense of segregation 65 years after Brown v. Board of Education. Urban Institute, September 27, 2019. Retrieved January 3, 2021, from www.urban.org/research/publication/when-school-segregated-making-sense-segregation-65-years-after-brown-v-board-education.

To increase the overall diversity of the school settings in which students learn and best support a diverse set of learners within proposed magnet schools, under Competitive Preference Priority 6, we provide competitive preference to applicants that demonstrate connections between their proposed MSAP projects and broader school or district efforts to increase students' access to high-quality instruction delivered by a diverse and well-supported group of educators. In responding to Competitive Preference Priority 6, we encourage applicants to describe how they intend to leverage the LEA's broader human resource efforts as an integrated component in meeting the goals and objectives of the MSAP project. For example, to further LEA efforts to ameliorate teacher shortages in science, technology, engineering, and mathematics, and expand access for all students to rigorous coursework in these areas, an applicant could propose to provide meaningful professional development and leadership opportunities for excellent educators to expand their instructional reach beyond a single school building to more students using technology.

Additionally, through Invitational Priority 1, we encourage applicants to establish whole-school magnet programs in order to promote equitable learning opportunities for students in ways that allow all students within a school to successfully engage in the special curriculum and meet challenging academic content standards and to decrease the likelihood of tracking or segregation within schools.

The Department is also interested in projects that propose to coordinate with relevant government entities—such as housing and transportation authorities, among others—given the impact that other public policy choices may have on the composition of a school's student body. For example, the Department seeks applications connecting MSAP projects to nearby public housing redevelopment projects, such as those funded through the Department of Housing and Urban Development (HUD) Choice Neighborhoods Initiative and the HUD Rental Assistance Demonstration program. Accordingly, under Invitational Priority 2, and more generally through the selection criteria outlined in section V of this notice, we encourage projects that propose to coordinate efforts with housing and transportation authorities, as well as other Federal, State, or local agencies, or community-based organizations.

To assist grantees in grounding their programs in the existing knowledge base, as well as identifying practices that will improve LEA capacity to continue operating magnet schools at high performance levels beyond the funding period, this competition provides opportunities for applicants to address the use of evidence in several ways. Under Selection Criteria 1—Desegregation, outlined in section V, part 1(a) of this notice, applicants are encouraged to demonstrate a rationale, that is, to demonstrate how, strategically, their proposed project activities would allow them to meet the purposes of MSAP. In response to the quality of the project evaluation selection criterion in part 2(e), applicants should discuss both how they will monitor the implementation and results of their MSAP project activities and how they plan to evaluate a specific project component or components in a study designed to yield results at the level of promising evidence or higher. This study, to be reported on by the end of the grants project as outlined in section IV (4)(c), is one measure to assist the LEA in building capacity to continue operating magnet schools at a high performance level after Federal funding for the magnet schools ends.

Priorities: This competition includes six competitive preference priorities and two invitational priorities. In accordance with 34 CFR 75.105(b)(2)(ii), Competitive Preference Priorities 1 and 3 are from the MSAP regulations at 34 CFR 280.32. In accordance with 34 CFR 75.105(b)(2)(iv), Competitive Preference Priorities 2 and 4 are from section 4406 of the ESEA, 20 U.S.C. 7231e. In accordance with 34 CFR 75.105(b)(2)(v), Competitive Preference Priority 5 is from allowable activities specified in section 4407 of the ESEA, 20 U.S.C. 7231f, and Competitive Preference Priority 6 is from the Final Priorities and Definitions—Secretary's Supplemental Priorities and Definitions for Discretionary Grants Programs, published in the Federal Register on December 10, 2021 (86 FR 70612) (Supplemental Priorities).

Competitive Preference Priorities: For FY 2023 and any subsequent year in which we make awards from the list of unfunded applications from this competition, these priorities are competitive preference priorities. Under 34 CFR 75.105(c)(2)(i), we award up to 2 additional points to an application depending on how well the application meets Competitive Preference Priority 1, up to 3 additional points to an application depending on how well the application meets Competitive Preference Priority 2, up to 2 additional points to an application depending on how well the application meets Competitive Preference Priority 3, up to 3 additional points to an application depending on how well the application meets Competitive Preference Priority 4, up to 3 additional points to an application depending on how well the application meets Competitive Preference Priority 5, and up to 3 additional points to an application depending on how well the application meets Competitive Preference Priority 6, for up to a total of 16 additional points. These points are in addition to any points the application earns under the selection criteria in this notice. Applicants may address one or more of the competitive preference priorities.

These priorities are:

Competitive Preference Priority 1—Need for Assistance (up to 2 points).

The Secretary evaluates the applicant's need for assistance by considering—

(1) The costs of fully implementing the magnet schools project as proposed;

(2) The resources available to the applicant to carry out the project if funds under the program were not provided;

(3) The extent to which the costs of the project exceed the applicant's resources; and

(4) The difficulty of effectively carrying out the approved plan and the project for which assistance is sought, including consideration of how the design of the magnet school project—e.g., the type of program proposed, the location of the magnet school within the LEA—impacts the applicant's ability to successfully carry out the approved plan.

Competitive Preference Priority 2—New or Revised Magnet Schools Projects and Strength of Evidence to Support Proposed Projects (up to 3 points).

The Secretary determines the extent to which the applicant proposes to (1) carry out a new, evidence-based magnet school program; (2) significantly revise an existing magnet school program, using evidence-based methods and practices, as available; or (3) replicate an existing magnet school program that has a demonstrated record of success in increasing student academic achievement and reducing isolation of minority groups.

Competitive Preference Priority 3—Selection of Students (up to 2 points).

The Secretary determines the extent to which the applicant proposes to select students to attend magnet schools by methods such as lottery, rather than through academic examination.

Competitive Preference Priority 4—Increasing Racial Integration and Socioeconomic Diversity (up to 3 points).

The Secretary determines the extent to which the applicant proposes to increase racial integration by taking into account socioeconomic diversity in designing and implementing magnet school programs.

Competitive Preference Priority 5—Inter-district and Regional Approaches (up to 3 points).

Under this priority, an applicant must demonstrate that grant funds will be used to enable the LEA, or consortium of such agencies, or other organizations partnered with such agency or consortium, to establish, expand, or strengthen inter-district and regional magnet programs.

Competitive Preference Priority 6—Supporting a Diverse Educator Workforce and Professional Growth to Strengthen Student Learning (up to 3 points).

Projects that are designed to increase the proportion of well-prepared, diverse, and effective educators serving students, with a focus on underserved students, through building or expanding high-poverty school districts' capacity to hire, support, and retain an effective and diverse educator workforce, through one or both of the following:

(a) Adopting or expanding comprehensive, strategic career and compensation systems that provide competitive compensation and include opportunities for educators to serve as mentors and instructional coaches, or to take on additional leadership roles and responsibilities for which educators are compensated.

(b) Developing data systems, timelines, and action plans for promoting inclusive and bias-free human resources practices that promote and support development of educator diversity.

Invitational Priorities: For FY 2023 and any subsequent year in which we make awards from the list of unfunded applications from this competition, these priorities are invitational priorities. Under 34 CFR 75.105(c)(1), we do not give an application that meets these invitational priorities a competitive or absolute preference over other applications.

These priorities are:

Invitational Priority 1—Whole School Magnet Programs.

Projects that propose to implement “whole-school magnet” schools in which all students enrolled in the school participate in the magnet school program, rather than schools that implement magnet programs within schools that are offered to less than the entire school population.

Invitational Priority 2—Coordination Across Agencies and Organizations.

Projects that propose to coordinate efforts with relevant governmental agencies, such as housing or transportation authorities, or community organizations to promote student diversity and achievement in magnet schools. This may include projects coordinated with public housing redevelopment efforts, such as those funded through the HUD Choice Neighborhoods Initiative or the HUD Rental Assistance Demonstration program.

Definitions: The definition of “evidence-based” is from 20 U.S.C. 7801. The definitions of “desegregation,” “feeder school,” “magnet school,” and “minority group” are from 34 CFR 280.4. The definitions of “demonstrates a rationale,” “experimental study,” “logic model,” “project component,” “promising evidence,” “quasi-experimental design study,” “relevant outcome,” and “What Works Clearinghouse Handbooks” are from 34 CFR 77.1(c). The definitions of “children or students with disabilities,” “disconnected youth,” “educator,” “English learner,” “military- or veteran-connected student,” and “underserved student” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Desegregation, in reference to a plan, means a plan for the reassignment of children or faculty to remedy the illegal separation of minority group children or faculty in the schools of an LEA or a plan for the reduction, elimination, or prevention of minority group isolation in one or more of the schools of an LEA.

Disconnected youth means an individual, between the ages 14 and 24, who may be from a low-income background, experiences homelessness, is in foster care, is involved in the justice system, or is not working or not enrolled in (or at risk of dropping out of) an educational institution.

Educator means an individual who is an early learning (as defined in the Supplemental Priorities) educator, teacher, principal or other school leader, specialized instructional support personnel (e.g., school psychologist, counselor, school social worker, early intervention service personnel), paraprofessional, or faculty.

English learner means an individual who is an English learner as defined in section 8101(20) of the ESEA, or an individual who is an English language learner as defined in section 203(7) of the Workforce Innovation and Opportunity Act.

Evidence-based means an activity, strategy, or intervention that—

(i) Demonstrates a statistically significant effect on improving student outcomes or other relevant outcomes based on—

(A) Strong evidence from at least one well-designed and well-implemented experimental study;

(B) Moderate evidence from at least one well-designed and well-implemented quasi-experimental study; or

(C) Promising evidence from at least one well-designed and well-implemented correlational study with statistical controls for selection bias; or

(ii)(A) Demonstrates a rationale based on high-quality research findings or positive evaluation that such activity, strategy, or intervention is likely to improve student outcomes or other relevant outcomes; and

(B) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Feeder school means a school from which students are drawn to attend a magnet school.

Logic model (also referred to as a theory of action) means a framework that identifies key project components of the proposed project (i.e., the active “ingredients” that are hypothesized to be critical to achieving the relevant outcomes) and describes the theoretical and operational relationships among the key project components and relevant outcomes.

Magnet school means a public elementary school, public secondary school, public elementary education center, or public secondary education center that offers a special curriculum capable of attracting substantial numbers of students of different racial backgrounds.

Military- or veteran-connected student means a child participating in an early learning (as defined in the Supplemental Priorities) program, a student enrolled in preschool through grade 12, or a student enrolled in career and technical education or postsecondary education who has a parent or guardian who is a veteran of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

Minority group means the following:

(1) American Indian or Alaskan Native. A person having origins in any of the original peoples of North America, and who maintains cultural identification through tribal affiliation or community recognition.

(2) Asian or Pacific Islander. A person having origins in any of the original peoples of the Far East, Southeast Asia, the Indian subcontinent, or the Pacific Islands. This area includes, for example, China, India, Japan, Korea, the Philippine Islands, and Samoa.

(3) Black (Not of Hispanic Origin). A person having origins in any of the black racial groups of Africa.

(4) Hispanic. A person of Mexican, Puerto Rican, Cuban, Central or South American, or other Spanish culture or origin, regardless of race.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that-

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Underserved student means a student (which includes students in K-12 programs) in one or more of the following student groups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student impacted by the justice system, including a formerly incarcerated student.

(o) A student performing significantly below grade level.

(p) A military- or veteran-connected student.

What Works Clearinghouse (WWC) Handbooks means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The WWC Procedures and Standards Handbook (Version 4.1), as well as the more recent WWC Handbooks released in August 2022 (Version 5.0), are available at https://ies.ed.gov/ncee/wwc/Handbooks.

Program Authority: 20 U.S.C. 7231-7231j.

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 280. (e) Supplemental Priorities.

II. Award Information

Type of Award: Discretionary grants.

Estimated Available Funds: $122,000,000.

Contingent upon the availability of funds and the quality of applications, we may make additional awards in FY 2024 from the list of unfunded applications from this competition.

Estimated Range of Awards: $1,500,000-$3,500,000 per budget year.

Maximum Award: Under section 4408(c) of the ESEA, 20 U.S.C. 7231h(3), awards to an LEA or a consortium of LEAs must not exceed $15,000,000 for the project period. Under section 4408(b) of the ESEA, 20 U.S.C. 7231h(2), grantees may not expend more than 50 percent of year one grant funds and not more than 15 percent of years two and three grant funds on planning activities. Professional development is not considered to be a planning activity.

Note: Yearly award amounts may vary.

Estimated Number of Awards: 25.

Note: The Department is not bound by any estimates in this notice.

Project Period: Up to 60 months.

III. Eligibility Information

1. Eligible Applicants: LEAs or consortia of LEAs implementing a desegregation plan as specified in section III. 4 of this notice.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

4. Other—Desegregation Plans: Under section 4404 of the ESEA, 20 U.S.C. 7231c, and 34 CFR 280.20(e) and (f), to establish eligibility to receive MSAP assistance, applicants must submit with their applications one of the following types of desegregation plans: (i) a desegregation plan required by a court order; (ii) a desegregation plan required by a State agency or an official of competent jurisdiction; (iii) a desegregation plan required by the Department's Office for Civil Rights (OCR) under title VI of the Civil Rights Act of 1964 (title VI); or (iv) a voluntary desegregation plan adopted by the applicant and submitted to the Department for approval as part of the application. Under the MSAP regulations, applicants are required to provide all of the information outlined in 34 CFR 280.20(a) through (g) in order to satisfy the eligibility requirements in 34 CFR 280.2(a)(2) and (b).

Applicants that are not operating under a required plan must submit with their application a copy of their voluntary desegregation plan. Applicants that are operating under a required plan must submit with their application a copy of their required plan along with documentation demonstrating that a request to modify that plan as necessary to meet the goals of the MSAP project was made to the court, agency, or official that approved a required plan per 34 CFR 280.10(c). An application must also include, in accordance with 34 CFR 280.20(e), (f), and (g)—

• Projected enrollment by race and ethnicity for magnet and feeder schools (Note: If seeking to prevent MGI, as opposed to seeking to reduce or eliminate MGI, we encourage applicants to include trend data showing the trajectory of school enrollment in the absence of MSAP funding);

• Signed civil rights assurances; and

• An assurance that the desegregation plan is being implemented or will be implemented if the application is funded.

Finally, under section 4405(b)(1)(A) of the ESEA, 20 U.S.C. 7231d(b)(1)(A), applicants must describe “how a grant awarded under this part will be used to promote desegregation, including any available evidence on, or if such evidence is not available, a rationale, based on current research, for how the proposed magnet school programs will increase interaction among students of different social, economic, ethnic, and racial backgrounds.” Applicants should provide this information in responding to the first selection criterion described in section V(1) of this notice—Desegregation. However, to assist the Department in conducting this review and applicants in submitting succinct and comprehensive information, the application package for this competition includes a Desegregation Plan Form OMB-1855-0011. On this form, clearly summarize the goals and objectives of the desegregation plan, including: (1) the proposed magnet schools to be revised or created under the applicant's MSAP project; (2) the specific schools (either magnet and/or feeder schools) targeted for change in MGI; (3) the nature of the MGI goals for each school, that is whether it is to reduce, eliminate, or prevent MGI; and (4) the current degree of and change in MGI sought at each targeted school over the period of the grant.

Note: Section 4401(b)(1) of the ESEA, 20 U.S.C. 7231, states MSAP's desegregation purpose as the elimination, reduction, or prevention of MGI in elementary and secondary schools with substantial proportions of minority students. A main goal of the MSAP statute is to support districts “seeking to foster meaningful interaction among students of different racial and ethnic backgrounds.” Section 4401(a)(4)(A) of the ESEA, 20 U.S.C. 7231(a)(4)(A). Congress also recognized that “segregation exists between minority and nonminority students as well as among students of different minority groups.” Section 4401(a)(4)(C) of the ESEA, 20 U.S.C. 7231(a)(4)(C). Therefore, projects should target schools where a particular minority group is isolated or is likely to become isolated without MSAP interventions such that the group has limited access to meaningful interaction with students from different racial and ethnic backgrounds. In accordance with section 4404 of the ESEA, 20 U.S.C. 7231c, and 34 CFR 280.2, projects that are not designed to reduce, eliminate, or prevent MGI and to bring students from different social, economic, ethnic, and racial backgrounds together in accordance with an approved desegregation plan, are not eligible for MSAP funding. Additionally, under 34 CFR 280.4(b), a “feeder school” is defined as “a school from which students are drawn to attend the magnet school,” and refers to the schools that students attending magnet schools would otherwise have attended had the magnet school not been available.

Note: Voluntary desegregation plans with current school board approval must be submitted as a part of the required application materials for consideration in this competition. However, these desegregation plans do not require Department approval prior to application submission. Under section 4404 of the ESEA, 20 U.S.C. 7231c, and 34 CFR 280.2(b), the Department will review applicants' voluntary desegregation plans to ensure that for each magnet school for which funding is sought, the magnet school will reduce, eliminate, or prevent MGI within the project period, either in the magnet school or in a feeder school, as appropriate.

Further details regarding types of desegregation plans and required documentation follows:

Required Desegregation Plans

1. Desegregation plans required by a court order. An applicant submitting a desegregation plan required by a court order must submit complete and signed copies of all court documents demonstrating that the magnet schools are a part of the approved desegregation plan. Examples of the types of documents that would meet this requirement include a Federal or State court order that establishes specific magnet schools, amends a previous order or orders by establishing additional or different specific magnet schools, requires or approves the establishment of one or more unspecified magnet schools, or authorizes the inclusion of magnet schools at the discretion of the applicant.

2. Desegregation plans required by a State agency or official of competent jurisdiction. An applicant submitting a desegregation plan ordered by a State agency or official of competent jurisdiction must provide documentation that shows that the desegregation plan was ordered based upon a determination that State law was violated. In the absence of this documentation, the applicant should consider its desegregation plan to be a voluntary plan and submit the data and information necessary for voluntary plans.

3. Desegregation plans required by OCR under Title VI. An applicant that submits a desegregation plan required by OCR under Title VI must submit a complete copy of the desegregation plan demonstrating that magnet schools are part of the approved plan or that the plan authorizes the inclusion of magnet schools at the discretion of the applicant.

4. Modifications to required desegregation plans. A previously approved desegregation plan that does not include the magnet school or program for which the applicant is now seeking assistance must be modified to include the magnet school component. The modification to the desegregation plan must be approved by the court, agency, or official that originally approved the plan. An applicant that wishes to modify a previously approved OCR Title VI desegregation plan to include different or additional magnet schools must submit the proposed modification for review and approval to the OCR regional office that approved its original plan.

An applicant should indicate in its application if it is seeking to modify its previously approved desegregation plan. Applicants seeking modifications to their plans are encouraged to submit evidence that the applicant has requested the modification as part of their application package and to submit demonstration of approval for the modification before September 11, 2023. Proof of approval for plan modifications should be emailed to Gillian Cohen-Boyer at msap.team@ed.gov or mailed to: U.S. Department of Education, 400 Maryland Avenue SW, Room 3C134, Washington, DC 20202-5970. Telephone: (202) 401-1259.

Voluntary Desegregation Plans

In order to be eligible for MSAP funding, an applicant must be operating under an approved voluntary desegregation plan, and under 34 CFR 280.2(b), the Secretary approves a voluntary desegregation plan only if it is determined that for each magnet school for which funding is sought, the magnet school will reduce, eliminate, or prevent minority group isolation within the period of the grant award, either in the magnet school or in a feeder school, as appropriate. A voluntary desegregation plan must be approved by the Department each time an application is considered for funding. Even if the Department has approved an LEA's voluntary desegregation plan in an LEA in the past, to be reviewed for approval, the desegregation plan must be resubmitted with each new application by the application deadline.

As part of the eligibility review for this award, the Department determines on a case-by-case basis whether an LEA's voluntary plan meets the statutory purpose of reducing, eliminating, or preventing MGI in its magnet or feeder schools, considering the unique circumstances in each district and school. As part of this determination, the Department will consider, consistent with 20 U.S.C. 7231(b)(1), whether the project is designed to eliminate, reduce, or prevent MGI in elementary and/or secondary schools with substantial proportions of students from any minority group(s). The Department's case-by-case review will include an examination of the factual basis for any proposed increases in enrollment of students from minority groups at district schools; for example, the Department will consider whether a plan to reduce, eliminate, or prevent MGI at a magnet school or at a feeder school would significantly increase MGI at any other magnet or feeder school in the LEA at the grade levels served by the magnet school.

An applicant's voluntary desegregation plan must demonstrate how the LEA will reduce, eliminate, or prevent MGI for each magnet school in the proposed project, and/or, if relevant, at identified feeder schools.

Under 34 CFR 280.20(f) and (g), applicants with voluntary desegregation plans must submit complete and accurate enrollment forms and other information to demonstrate their eligibility (specific requirements are detailed in the application package).

Voluntary desegregation plan applicants must submit documentation of school board approval (or documentation of other official adoption of the plan by a governing authority for the LEA as required under 34 CFR 280.20(f)(2)) when submitting their application. LEAs that were previously subject to a required desegregation plan, but have achieved unitary status and so are voluntary desegregation plan applicants, typically would not need to include court orders. Rather, such applicants should provide the documentation discussed in this section.

5. Single-Sex Programs: An applicant proposing to operate a single-sex magnet school or a coeducational magnet school that offers single-sex classes or extracurricular activities will undergo a review of its proposed single-sex educational program to determine compliance with applicable nondiscrimination laws, including the Equal Protection Clause of the U.S. Constitution (as interpreted in United States v. Virginia, 518 U.S. 515 (1996), and other cases) and Title IX of the Education Amendments of 1972 (20 U.S.C. 1681, et seq.) and its regulations—including 34 CFR 106.34. This review may require the applicant to provide additional fact-specific information about the single-sex program.

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Submission of Proprietary Information: Given the types of projects that may be proposed in applications for the MSAP, your application may include business information that you consider proprietary. In 34 CFR 5.11, we define “business information” and describe the process we use in determining whether any of that information is proprietary, and thus protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information, please see 34 CFR 5.11(c).

3. Intergovernmental Review: This program is subject to Executive Order 12372 and the regulations in 34 CFR part 79. Information about Intergovernmental Review of Federal Programs under Executive Order 12372 is in the application package for this competition.

4. Funding Restrictions: Unallowable costs are specified in section 4407 of the ESEA, 20 U.S.C. 7231f. We reference additional regulations outlining funding restrictions in the Applicable Regulations section of this notice.

5. Recommended Page Limit: The application narrative is where you, the applicant, address the selection criteria that reviewers use to evaluate your application. We recommend that you (1) limit the application narrative to 150 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances, certifications, desegregation plan and related information; or the one-page abstract, the resumes, or letters of support. However, the recommended page limit does apply to the application narrative.

6. Notice of Intent to Apply: The Department will be able to review grant applications more efficiently if we know the approximate number of applicants that intend to apply. Therefore, we strongly encourage each potential applicant to notify the Department of their intent to submit an application. To do so, please submit your intent to apply by emailing msap.team@ed.gov with the subject line, “[LEA Name(s)] Intent to Apply.” Applicants that do not notify the Department of their intent to apply may still apply for funding.

V. Application Review Information

1. Selection Criteria: The selection criteria are from 34 CFR 75.210, 280.31, and sections 4401 and 4405 of the ESEA, 20 U.S.C. 7231 and 7231d.

The maximum score for all of the selection criteria is 100 points. The maximum score for each criterion is included in parentheses following the title of the specific selection criterion. Each criterion also includes the factors that reviewers will consider in determining the extent to which an applicant meets the criterion.

Points awarded under these selection criteria are in addition to any points an applicant earns under the competitive preference priorities in this notice. The maximum score that an application may receive under the competitive preference priorities and the selection criteria is 116 points.

(a) Desegregation (up to 30 points).

The Secretary reviews each application to determine the quality of the desegregation-related activities, including:

(1) The effectiveness of the applicant's proposed desegregation strategies for the elimination, reduction, or prevention of MGI in elementary schools and secondary schools with substantial proportions of minority students. (section 4401(b)(1) of the ESEA, 20 U.S.C. 7231) (up to 10 points)

(2) The importance or magnitude of the results or outcomes likely to be attained by the proposed project. (34 CFR 75.210) (up to 8 points)

(3) The effectiveness of its plan to recruit students from different social, economic, ethnic, and racial backgrounds into the magnet schools. (34 CFR 280.31) (up to 4 points)

(4) How it will foster interaction among students of different social, economic, ethnic, and racial backgrounds in classroom activities, extracurricular activities, or other activities in the magnet schools (or, if appropriate, in the schools in which the magnet school programs operate). (34 CFR 280.31) (up to 4 points)

(5) The extent to which there is a conceptual framework underlying the proposed research or demonstration activities and the quality of that framework. (34 CFR 75.210) (up to 4 points)

(b) Quality of the project design (up to 30 points).

The Secretary reviews each application to determine the quality of the project design. In determining the quality of the design of the proposed project, the Secretary considers the following factors:

(1) The manner and extent to which the magnet school program will increase student academic achievement in the instructional areas offered by the school, including any evidence, or if such evidence is not available, a rationale based on current research findings, to support such description. (section 4405(b)(1)(B) of the ESEA, 20 U.S.C. 7231d(b)(1)(B)) (up to 6 points)

(2) The extent to which the training or professional development services to be provided by the proposed project are of sufficient quality, intensity, and duration to lead to improvements in practice among the recipients of those services. (34 CFR 75.210) (up to 6 points)

(3) The extent to which each magnet school for which funding is sought will encourage greater parental decision-making and involvement. (34 CFR 280.31) (up to 6 points)

(4) The extent to which the services to be provided by the proposed project involve the collaboration of appropriate partners for maximizing the effectiveness of project services. (34 CFR 75.210) (up to 6 points)

(5) The potential for the incorporation of project purposes, activities, or benefits into the ongoing program of the agency or organization at the end of Federal funding. (34 CFR 75.210) (up to 6 points)

(c) Quality of the management plan (up to 10 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks. (34 CFR 75.210) (up to 5 points)

(2) The extent to which the costs are reasonable in relation to the number of persons to be served and to the anticipated results and benefits. (34 CFR 75.210) (up to 5 points)

(d) Quality of personnel (up to 15 points).

(1) The Secretary determines the extent to which—

(a) The project director (if one is used) is qualified to manage the project;

(b) Other key personnel are qualified to manage the project; and

(c) Teachers who will provide instruction in participating magnet schools are qualified to implement the special curriculum of the magnet schools. (34 CFR 280.31) (up to 10 points)

(2) To determine personnel qualifications, the Secretary considers experience and training in fields related to the objectives of the project, including the key personnel's knowledge of and experience in curriculum development and desegregation strategies. (34 CFR 280.31) (up to 5 points)

(e) Quality of the project evaluation (up to 15 points).

The Secretary considers the quality of the evaluation to be conducted of the proposed project. In determining the quality of the evaluation, the Secretary considers the following factors:

(1) How the applicant will assess, monitor, and evaluate the impact of the activities funded under this part on student achievement and integration. (section 4405(b)(1)(D) of the ESEA, 20 U.S.C. 7231d(b)(1)(D)) (up to 5 points)

(2) The extent to which the methods of evaluation include the use of objective performance measures that are clearly related to the intended outcomes of the project and will produce quantitative and qualitative data to the extent possible. (34 CFR 75.210) (up to 5 points)

(3) The extent to which the methods of evaluation will, if well implemented, produce promising evidence (as defined in 34 CFR 77.1(c)) about the project's effectiveness. (34 CFR 75.210) (up to 5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000) under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN) (or we may send you an email containing a link to access an electronic version of your GAN). We may notify you informally as well.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) If awarded a grant, applicants must also submit a final report with the results of a study designed to yield results at the level of promising evidence or higher, undertaken during the grant to assist the LEA in building capacity to continue operating magnet schools at a high performance level after Federal funding ends. The plans for this study, which may be narrowly tailored to a specific project component(s), are specifically what is being assessed under selection criterion factor (e)(3).

5. Performance Measures: For the purposes of reporting under 34 CFR 75.110, the following six performance measures have been established for the MSAP:

(a) The number and percentage of magnet schools receiving assistance whose student enrollment eliminates, reduces, or prevents MGI.

(b) The percentage increase of students from major racial and ethnic groups in magnet schools receiving assistance who score proficient or above on State assessments in reading/language arts as compared to the previous year.

(c) The percentage increase of students for all students across each racial and ethnic group in magnet schools receiving assistance who score proficient or above on State assessments in mathematics as compared to the previous year.

(d) The percentage of MSAP-funded magnet schools still operating magnet school programs 3 years after Federal funding ends.

(e) The percentage increase of students for all students across each racial and ethnic group in MSAP-funded magnet schools still operating magnet school programs who score proficient or above on State assessments in reading/language arts 3 years after Federal funding ends as compared to the final project year.

(f) The percentage increase of students for all students across each racial and ethnic group in MSAP-funded magnet schools still operating magnet school programs who score proficient or above on State assessments in mathematics 3 years after Federal funding ends as compared to the final project year.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

James F. Lane,
Senior Advisor to the Secretary, Delegated the Duties of the Assistant Secretary Office of Elementary and Secondary Education.

[FR Doc. 2023-05118 Filed 3-13-23; 8:45 am]

BILLING CODE 4000-01-P